NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 21, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Lifecycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Lifecycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, National Oceanic and Atmospheric Administration (N1-370-03-1, 10 items, 9 temporary items). Records of the Office of Response and Restoration, including such files as incident response and waste site financial records, data, documentation, inputs, and outputs for an electronic system used to coordinate watershed information, coastal resource coordinator records, and hazardous materials response records relating to medium and minor spills. Also included are electronic copies of records created using electronic mail and word processing. Proposed for permanent retention are recordkeeping copies of hazardous materials response records that document major spills, including related finding aids. Files relating to medium and minor spills that significantly document agency policies or spills in ecologically sensitive areas will be brought to NARA's attention for appraisal on a case-by-case basis.

2. Department of Defense, Defense Intelligence Agency (N1-373-03-1, 1 item, 1 temporary item). Backup tapes containing information used for accountability and control of access regarding agency information systems.

3. Department of Defense, Defense Commissary Agency (N1-506-02-6), 53 items, 53 temporary items). Records relating to inspections and investigations conducted by the Office of the Inspector General. Included are such records as congressional correspondence, process reviews, referrals, complaints, hotline case files, trends and analysis files, and staff assistance reports. Also included are electronic copies of documents created using electronic mail and word processing. This schedule authorizes the agency to apply the proposed disposition instructions to any recordkeeping medium.

4. Department of Health and Human Services, Centers for Medicare and Medicaid Services (N1-440-02-1, 7 items, 5 temporary items). Media relations files relating to the clearance and dissemination of press materials as well as articles appearing in the press concerning health care issues. Also included are electronic copies of records created using electronic mail and word processing. Proposed for permanent retention are recordkeeping copies of news releases, press conference transcripts, and related background materials.

5. Department of Justice, Civil Division (N1-60-02-7, 6 items, 1 temporary item). Electronic versions of comments relating to the “September 11th Victim Compensation Fund of 2001” received by the agency or created for posting on the agency Web site. Proposed for permanent retention are recordkeeping copies of comments as well as an electronic database used for tracking the comments.

6. Department of State, Bureau of Public Affairs (N1-59-03-2, 4 items, 3 temporary items). Bibliographic and biographic card files and source documents for special historical projects carried out by the Office of the Historian. Proposed for permanent retention are general files relating to a project on U.S.-Russian relations in the period 1816 to 1865.

7. National Aeronautics and Space Administration, Agency-wide (N1-255-01-1, 7 items, 6 temporary items). Problem reporting and corrective action reports, quality assurance surveillance records, including audits, studies, and inspection stamp issuance documents, and electronic copies of records created using electronic mail and word processing. Proposed for permanent retention are recordkeeping copies of safety, reliability and quality assurance records that relate to flight hardware.

8. National Aeronautics and Space Administration, Agency-wide (N1-255-01-2, 3 items, 2 temporary items). Project-level records that support the certification of flight readiness and flight readiness reviews. Also included are electronic copies of records created using electronic mail and word processing. Proposed for permanent retention are recordkeeping copies of programmatic records for the certification of flight readiness and flight readiness reviews for manned space flight programs and projects.

9. National Aeronautics and Space Administration, Agency-wide (N1-255-01-3, 5 items, 5 temporary items). Forms that document the shipment of equipment to and from agency installations by commercial shippers or contractors. Also included are electronic copies of records created using electronic mail and word processing.

10. National Aeronautics and Space Administration, Office of Public Affairs (N1-255-03-01, 1 item, 1 temporary item). Water-damaged materials from the agency's headquarters still photograph reference collection that could not be recovered, including captions, transparencies, negatives, and hardcopy prints and slides.

11. National Commission on Library and Information Science, Library Statistics Program (N1-220-02-29, 3 items, 2 temporary items). Electronic copies of records created using electronic mail and word processing that relate to forums sponsored by the agency and the National Center for Education Statistics. Recordkeeping copies of these files are proposed for permanent retention.

12. Office of Navajo and Hopi Indian Relocation, Relocation Operations Division (N1-220-02-20, 1 item, 1 temporary item). A slide presentation stored in two projector cartridges for which there is no accompanying script nor are the slides annotated.

13. Office of Navajo and Hopi Indian Relocation, Executive Direction Division (N1-220-02-21, 2 items, 1 temporary item). Sound recordings of public hearings and meetings conducted by the agency during calendar years 1979 to 1983 from which no information is retrievable. Proposed for permanent retention are sound recordings of public hearings and meetings conducted by the agency during these years from which information is retrievable.

14. Overseas Private Investment Corporation, Human Resources Department (N1-420-03-1, 3 items, 3 temporary items). Forms and other records completed by separating employees. Included are electronic copies of records created using electronic mail and word processing.

15. Peace Corps, Office of the Inspector General (N1-490-02-4, 11 items, 8 temporary items). Records relating to inspections and evaluations, investigations, and audits. Also included are electronic copies of records created using word processing and electronic mail. Proposed for permanent retention are recordkeeping copies of selected audit files, reports to Congress, and country evaluation reports.

16. Tennessee Valley Authority, Education, Training and Diversity (N1-142-02-1, 10 items, 9 temporary items). Correspondence files, training manuals, and course materials. Also included are electronic copies of documents created using electronic mail and word processing. Proposed for permanent retention are electronic versions of correspondence files created by the Senior Vice President for Education, Training, and Diversity.

Dated: November 29, 2002.
Michael J. Kurtz,
Assistant Archivist for Record Services—Washington, DC.

[FR Doc. 02-30880 Filed 12-5-02; 8:45 am]

BILLING CODE 7515-01-P